DEPARTMENT OF ENERGY

Federal Energy Regulatory Commission

[Project Nos. 77-316, 96-050, 137-216, 175-030, 233-245, 606-041, 619-175, 803-119, 1061-105, 1121-137, 1354-033, 1962-221, 1988-102, 2105-129, 2106-077, 2107-051, 2130-125, 2310-252, 2661-094, 2687-189, 2735-102, and 14531-002]

Pacific Gas & Electric Company, Pacific Generation, LLC; Notice of Application for Transfer of Licenses and Soliciting Comments, Motions To Intervene, and Protests

On December 13, 2022, as supplemented on April 10, 2023, Pacific Gas and Electric Company (PG&E or transferor) and Pacific Generation (Pacific or transferee) filed jointly an application for the transfer of license of the following projects:

Project name | Project No. | Location
Potter Valley | 77 | Eel and East Branch Russian rivers, Mendocino and Lake counties, California.
Kerckhoff | 96 | San Joaquin River, Fresno and Madera counties, California.
Mokelumne River | 137 | Mokelumne, North Fork Mokelumne, and Bear rivers and tributaries of the North Fork, Alpine, Amador, and Calaveras counties, California.
Balch | 175 | North Fork Kings River, Fresno County, California.
Pit 3, 4, and 5 | 233 | Pit River, Shasta County, California.
Kilarc-Cow Creek | 606 | South Cow and Old Cow creeks, Shasta County, California.
Bucks Creek | 619 | Bucks, Grizzly, and Milk Ranch creeks and their tributaries, Plumas County, California.
DeSabla-Centerville | 803 | West Branch Feather River and Butte Creek tributaries, Butte County, California.
Phoenix | 1061 | South Fork of the Stanislaus River in Tuolumne County, California.
Battle Creek | 1121 | Mainstem, North Fork, and South Fork Battle Creek, Shasta and Tehama counties, California.
Crane Valley | 1354 | North Fork Willow, South Fork Willow, Chilkoot, and Chiquito creeks, Madera County, California.
Rock Creek-Cresta | 1962 | North Fork Feather River and its tributaries, Plumas and Butte counties, California.
Haas-Kings River | 1988 | North Fork Kings River, Fresno County, California.
Upper North Fork Feather River | 2105 | North Fork Feather River and on Butt Creek, Plumas County, California.
McCloud-Pit | 2106 | McCloud and Pit rivers, Shasta County, California.
Poe | 2107 | North Fork Feather River, Butte County, California.
Spring Gap-Stanislaus | 2130 | Middle and South Fork Stanislaus River, Calaveras and Tuolumne counties, California.
Upper Drum-Spaulding | 2310 | Yuba and Bear rivers, Nevada and Placer counties, California.
Hat Creek | 2661 | Hat Creek, Shasta County, California.
Pit 1 | 2687 | Fall and Pit rivers, Shasta County, California.
Helms Pumped Storage Project | 2735 | Helms Creek and North Fork Kings River, Fresno County, California.
Lower Drum Spaulding | 14531 | Bear River, Nevada County, California.

The applicants seek Commission approval to transfer the licenses for the above projects from the transferor to the transferee. The transfer of licenses is part of a broader corporate restructuring to facilitate raising equity capital for PG&E's utility needs. The transferee will be required by the Commission to comply with all the requirements of the licenses as though it were the original licensee.

Applicant Contacts: For Transferor and Transferee: Kimberly Ognisty, Chief Counsel, Law Department, Pacific Gas and Electric Company, Oakland General Office, 300 Lakeside Avenue, Oakland, CA 94612, Phone: (510) 227-7060, Email: Kimberly.ognisty@pge.com, and Charles R. Sensiba, Elizabeth J. McCormick, Troutman Pepper Hamilton Sanders, LLP, 401 9th St. NW, Suite 1000, Washington, DC 20004, Phone (CS): (202) 274-2850, and Phone (EM): (202) 274-2993, Email: Charles.sensiba@troutman.com and Elizabeth.mccormick@troutman.com.

FERC Contact: Mrs. Anumzziatta Purchiaroni, (202) 502-6191 or Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include Project numbers 77-316, 96-050, 137-216, 175-030, 233-245, 606-041, 619-175, 803-119, 1061-105, 1121-137, 1354-133, 1962-221, 1988-102, 2105-129, 2106-077, 1107-051, 2130-125, 2310-252, 2661-094, 2687-189, 2735-102, and 14531-002. Comments emailed to Commission staff are not considered part of the Commission record.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 13, 2023.
Kimberly D. Bose,
Secretary.

[FR Doc. 2023-13076 Filed 6-16-23; 8:45 am]

BILLING CODE 6717-01-P